SURFACE TRANSPORTATION BOARD

[Docket No. EP 290 (Sub-No. 5) (2018-1)]

Quarterly Rail Cost Adjustment Factor

AGENCY: Surface Transportation Board.

ACTION: Approval of rail cost adjustment factor.

SUMMARY: The Board has approved the first quarter 2018 Rail Cost Adjustment Factor (RCAF) and cost index filed by the Association of American Railroads. A new base level for the index is calculated in the Board's decision, as the statute requires be done every five years. The first quarter 2018 RCAF (Unadjusted) is 1.027. The first quarter 2018 RCAF (Adjusted) is 0.422. The first quarter 2018 RCAF-5 is 0.402.

DATES: Applicability Date: January 1, 2018.

FOR FURTHER INFORMATION CONTACT: Pedro Ramirez, (202) 245-0333. Federal Information Relay Service (FIRS) for the hearing impaired: (800) 877-8339.

SUPPLEMENTARY INFORMATION: Additional information is contained in the Board's decision, which is available on our website, http://www.stb.gov. Copies of the decision may be purchased by contacting the Office of Public Assistance, Governmental Affairs, and Compliance at (202) 245-0238. Assistance for the hearing impaired is available through FIRS at (800) 877-8339.

This action is categorically excluded from environmental review under 49 CFR 1105.6(c).

Decided: December 18, 2017.
By the Board, Board Members Begeman and Miller.
Jeffrey Herzig,
Clearance Clerk.

[FR Doc. 2017-27634 Filed 12-21-17; 8:45 am]

BILLING CODE 4915-01-P